DEPARTMENT OF ENERGY

Agency Information Collection Extension

AGENCY: U.S. Department of Energy.

ACTION: Submission of Office of Management and Budget (OMB) review; comment request.

SUMMARY: The Department of Energy (DOE) has submitted an information request to the OMB for extension under the provisions of the Paperwork Reduction Act of 1995. The information collection requests a three-year extension of its Environment, Safety and Health reporting requirements, OMB Control Number 1910-0300. This information collection request covers information necessary to exercise management oversight and control over Management and Operating (M&O) contractors of DOE's Government-Owned Contractor-Operated (GOCO) facilities, and offsite contractors. The contractor management oversight and control function concerns the ways in which DOE contractors provide goods and services for DOE organizations and activities in accordance with the terms of their contract; the applicable statutory, regulatory and mission support requirements of the Department; and regulations in the functional area covered in this request. The basic authority for these collections is the statute establishing the Department of Energy (“Department of Energy Organization Act,” Pub. L. 95-91, of August 4, 1977).

DATES: Comments regarding this proposed information collection must be received on or before June 19, 2009. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs (OIRA), Office of Management and Budget, New Executive Office Building, Room 10102, 735 17th Street, NW., Washington, DC 20503; and to Vincent Le, U.S. Department of Energy, Office of Health, Safety and Security, HS-1.22, 1000 Independence Ave SW., Washington, DC 20585-1290, (301) 903-4648. Or by fax at 301-903-6081 or by e-mail at vinh.le@hq.doe.gov.

FOR FURTHER INFORMATION CONTACT: Request for additional information should be directed to Vincent Le, U.S. Department of Energy, Office of Health, Safety and Security, HS-1.22, 1000 Independence Ave SW., Washington, DC 20585-1290, (301) 903-4648. Or by fax at 301-903-6081, by e-mail at vinh.le@hq.doe.gov, or online at http://www.hss.energy.gov/pra.html.

SUPPLEMENTARY INFORMATION: This information collection request contains: (1) Current OMB Control Number: 1910-0300; (2) Information Collection Request Title: Environment, Safety and Health; (3) Purpose: This collection provides for DOE management oversight and control over its contractors ensuring that environment, safety and health resources and requirements are managed efficiently and effectively; (4) Estimated Number of Respondents: 2,612 (Previously reported was 2,469); (5) Estimated Total Burden Hours: 69,560 (Previously reported was 68,136); (6) Number of Collections: This information collection request contains nine information and/or recordkeeping requirements; (7) Estimated Annual Cost Burden: None (Previously reported was $12,741,432).

Statutory Authority: Department of Energy Organization Act, Public Law No. 95-91, 91 Stat. 565 (1977).

Issued in Washington, DC on May 11, 2009.
Lesley A. Gasperow,
Director, Office of Resource Management, Office of Health, Safety and Security.

[FR Doc. E9-11728 Filed 5-19-09; 8:45 am]

BILLING CODE 6450-01-P